DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species.

DATES: Written data, comments or requests must be received by October 10, 2006.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Written data, comments, or requests for copies of these complete applications should be submitted to the Director (address above).

Applicant: Matson's Laboratory, Milltown, MT, PRT-096048

The applicant requests renewal and amendment of a permit to import samples such as teeth from wood bison (Bison bison athabascae) from government-managed herds such as the Mackenzie Sanctuary herd and the Nahanni population in Canada for the purpose of scientific research. This notification covers activities to be conducted by the applicant over a five-year period.

Applicant: Animal Source Texas, Krum, TX, PRT-120288

The applicant requests a permit to export six live captive-born lemurs (Lemur catta) to Leofoo Village Theme Park—Animal Kingdom, Taiwan for the purpose of enhancement of the survival of the species.

Applicant: Southwest Fisheries Science Center, National Marine Fisheries Service, La Jolla, CA, PRT-844694

The applicant requests re-issuance of their permit to import biological samples taken from Kemp's ridley sea turtle (Lepidochelys kempii), olive ridley sea turtle (Lepidochelys olivacea), hawksbill sea turtle (Eretmochelys imbricata), green sea turtle (Chelonia mydas), and leatherback sea turtle (Dermochelys coriacea), collected in the wild from worldwide locations, for the purpose of scientific research. This notification covers activities to be conducted by the applicant over a five-year period.

Applicant: Ziccolone and Carrasco Productions, Inc., Las Vegas, NV, PRT-123261

The applicant requests a permit to import five (2 male and 3 female) captive born tigers (Panthera tigris) from Mexico to Las Vegas, Nevada for the purpose of enhancement of the species through conservation education, and return them to Mexico within a five-year period.

Dated: August 18, 2006.
Monica Farris,
Senior Permit Biologist, Branch of Permits, Division of Management Authority.

[FR Doc. E6-14765 Filed 9-6-06; 8:45 am]

BILLING CODE 4310-55-P